DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Substituted Triazine and Purine Compounds for the Treatment of Chagas Disease and African Trypanosomiasis

Description of Invention: Parasitic protozoa are responsible for a wide variety of infections in both humans and animals. Trypanosomiasis poses health risks to millions of people across multiple countries in Africa and North and South America. Visitors to these regions, such as business travelers and tourists, are also at risk for contracting parasitic diseases. There are two types of African trypanosomiasis, also known as sleeping sickness. One type is caused by the parasite Trypanosoma brucei gambiense, and the other is caused by the parasite Trypanosoma brucei rhodesiensi. If left untreated, African sleeping sickness results in death. Chagas disease, caused by Trypanosoma cruzi (T. cruzi), affects millions of people in Mexico and South and Central America. Untreated, Chagas disease causes decreased life expectancy and can also result in death.

The subject invention provides for novel triazine and purine compounds that are useful for the treatment and prevention of mammalian protozoal diseases, including African trypanosomiasis, Chagas disease and other opportunistic infections. The compounds can inhibit the cysteine proteases rhodesain found in the parasites that cause African trypanosomiasis and cruzain found in T. cruzi. The invention includes composition claims for the novel triazine and purine compounds, methods for inhibiting cruzain or rhodesain in a subject, and methods for treating subjects suffering from African trypanosomiasis or Chagas disease.

Applications: Prophylactic and therapeutic treatment of African trypanosomiasis and Chagas disease.

Advantages: Novel compounds against the cysteine proteases, cruzain and rhodesain; Compounds possess low nanomolar inhibitory potential against cruzain and rhodesain.

Development Status: In vitro and in vivo data are available upon request and upon execution of an appropriate confidentiality agreement.

Inventors: Craig J. Thomas et al. (NHGRI).

Patent Status: U.S. Provisional Application No. 61/199,763 filed 19 Nov 2008 (HHS Reference No. E-267-2008/0-US-01).

Licensing Status: Available for licensing.

Licensing Contact: Kevin W. Chang, Ph.D.; 301-435-5018; changke@mail.nih.gov.

Collaborative Research Opportunity: The NIH Chemical Genomics Center (NCGC) is seeking statements of capability or interest from parties interested in collaborative research to further develop, evaluate, or commercialize appropriate lead compounds described in U.S. Provisional Application No. 61/199,763. Please contact Dr. Craig J. Thomas (craigt@nhgri.nih.gov) or Claire Driscoll (cdriscol@mail.nih.gov), Director of the NHGRI Technology Transfer Office, for more information.

Improved Expression Vectors for Mammalian Use

Description of Invention: This technology relates to improving levels of gene expression using a combination of a constitutive RNA transport element (CTE) with a mutant form of another RNA transport element (RTE). The combination of these elements results in a synergistic effect on stability of mRNA transcripts, which in turn leads to increased expression levels. Using HIV-1 gag as reporter mRNA, one mutated RTE in combination with a CTE was found to improve expression of unstable mRNA by about 500-fold. Similarly this combination of elements led to synergistically elevated levels of HIV-1 Env expression. The function of CTEs and RTEs is conserved in mammalian cells, so this technology is a simple and useful way of obtaining high levels of expression of otherwise poorly expressed genes and can be used in a number of applications such as but not limited to improvements of gene therapy vectors, expression vectors for mammalian cells.

Applications: Gene therapy; DNA vaccines; Protein expression.

Development Status: In vitro data available.

Inventor: Barbara K. Felber et al. (NCI).

Patent Status: U.S. Utility Application No. 10/557,129 filed 16 Nov 2005, from PCT Application No. PCT/US04/15776 filed 19 May 2004, which published as WO 2004/113547 on 29 Dec 2004 (HHS Reference No. E-223-2003/1-US-03).

Licensing Status: Available for licensing.

Licensing Contact: Kevin W. Chang, Ph.D.; 301-435-5018; changke@mail.nih.gov.

Collaborative Research Opportunity: The National Cancer Institute Vaccine Branch is seeking statements of capability or interest from parties interested in collaborative research to further develop, evaluate, or commercialize this technology. Please contact John D. Hewes, Ph.D. at 301-435-3121 or hewesj@mail.nih.gov for more information.

Dated: April 1, 2009.
Richard U. Rodriguez,
Director, Division of Technology Development and Transfer, Office of Technology Transfer, National Institutes of Health.

[FR Doc. E9-7883 Filed 4-7-09; 8:45 am]

BILLING CODE 4140-01-P